ENVIRONMENTAL PROTECTION AGENCY

[A-1-FRL-9933-37-Region 1]

Clean Air Act Operating Permit Program; Petition To Object to the Title V Permit for Schiller Station; New Hampshire

AGENCY: Environmental Protection Agency (EPA).

ACTION: Notice of final action.

SUMMARY: Pursuant to the Clean Air Act (CAA), the Environmental Protection Agency (EPA) Administrator signed an Order, dated July 28, 2015, partially granting and partially denying a petition to object to a state operating permit issued by the New Hampshire Department of Environmental Services (NHDES). The Order responds to a July 24, 2014 petition, relating to Public Service of New Hampshire's Schiller Station, a fossil fuel-fired power plant located in Portsmouth, New Hampshire. The petition was submitted by the Sierra Club. This Order constitutes final action on the petition requesting that the Administrator object to the issuance of the proposed CAA title V permit.

ADDRESSES: Copies of the final Order, the petition, and all pertinent information relating thereto are on file at the EPA Region 1's Boston office, John W. McCormack Post Office and Courthouse Building, 5 Post Office Square, Boston, Massachusetts. The EPA requests that if at all possible, you contact the individual listed in the FOR FURTHER INFORMATION CONTACT section to view copies of the final Order, petition, and other supporting information. You may view the hard copies Monday through Friday, from 9 a.m. to 4:00 p.m., excluding Federal holidays. If you wish to examine these documents, you should make an appointment at least 24 hours before the visiting day. The final Order is also available electronically at the following Web site: http://www.epa.gov/region07/air/title5/petitiondb/petitiondb.htm.

FOR FURTHER INFORMATION CONTACT: Patrick Bird, Air Permits, Toxics and Indoor Programs Unit, Environmental Protection Agency, EPA Region 1, (617) 918-1287, bird.patrick@epa.gov.

SUPPLEMENTARY INFORMATION: The CAA affords the EPA a 45-day period to review and object to, as appropriate, operating permits proposed by state permitting authorities. Section 505(b)(2) of the CAA authorizes any person to petition the EPA Administrator within 60 days after the expiration of this review period to object to a state operating permit if the EPA has not done so. Petitions must be based only on objections raised with reasonable specificity during the public comment period, unless the petitioner demonstrates that it was impracticable to raise these issues during the comment period or that the grounds for objection or other issues arose after the comment period. In the Schiller Station petition (numbered VI-2014-04), the Petitioner sought EPA objection on the following issues: (Claim A1) the SO2 emission limits in the proposed permit fail to ensure that Schiller Station does not cause exceedences of the 2010 1-hour SO2 National Ambient Air Quality Standard (NAAQS) in New Hampshire; (Claim A2) the SO2 emission limits in the proposed permit are insufficient to protect air quality with respect to the 2010 1-hour SO2 National Ambient Air Quality Standard (NAAQS) in Maine; (Claim B) the proposed permit fails to include emission limits for particulate matter (PM) less than 2.5 micrometers in diameter; (Claim C) the proposed permit fails to require continuous emissions monitoring to assure adequate monitoring of PM emissions. NHDES issued the final Schiller Station operating permit (permit no. TV-0053) on June 6, 2014. The Order explains the reasons behind the EPA's decision to partially grant and partially deny the petition for objection. Pursuant to section 505(b)(2) of the CAA, the Petitioner may seek judicial review of those portions of the Schiller Station petition which the EPA denied in the United States Court of Appeals for the appropriate circuit. Any petition for review shall be filed within 60 days of this notice in accordance with the requirements of section 307 of the CAA.

Dated: August 19, 2015.
Debra A. Szaro,
Acting Regional Administrator, EPARegion 1.

[FR Doc. 2015-21632 Filed 8-31-15; 8:45 am]

BILLING CODE 6560-50-P